DEPARTMENT OF TRANSPORTATION

National Highway Traffic Safety Administration

[Docket No. NHTSA-2002-11443; Notice 01]

RIN 2127-AI73

Preliminary Theft Data; Motor Vehicle Theft Prevention Standard

AGENCY: National Highway Traffic Safety Administration (NHTSA), Department of Transportation.

ACTION: Publication of preliminary theft data; request for comments.

SUMMARY: This document requests comments on data about passenger motor vehicle thefts that occurred in calendar year (CY) 2000, including theft rates for existing passenger motor vehicle lines manufactured in model year (MY) 2000. The theft data preliminarily indicate that the vehicle theft rate for CY/MY 2000 vehicles (2.89 thefts per thousand vehicles) did not change from the theft rate for CY/MY 1999 vehicles (2.89 thefts per thousand vehicles).

Publication of these data fulfills NHTSA's statutory obligation to periodically obtain accurate and timely theft data, and publish the information for review and comment.

DATES: Comments must be submitted on or before May 13, 2002.

ADDRESSES: All comments should refer to the docket number and notice number cited in the heading of this document and be submitted, preferably with two copies to: U.S. Department of Transportation, Dockets, Room PL-401, 400 Seventh Street, SW., Washington, DC 20590. Docket hours are from 10 a.m. to 5 p.m., Monday through Friday.

FOR FURTHER INFORMATION CONTACT: Ms. Rosalind Proctor, Office of Planning and Consumer Programs, NHTSA, 400 Seventh Street, SW., Washington, DC 20590. Ms. Proctor's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing or affixing vehicle identification numbers (VINs) onto certain major original equipment and replacement parts of high-theft lines of passenger motor vehicles.

The agency is required by 49 U.S.C. 33104(b)(4) to periodically obtain, from the most reliable source, accurate and timely theft data, and publish the data for review and comment. To fulfill the section 33104(b)(4) mandate, this document reports the preliminary theft data for CY 2000, the most recent calendar year for which data are available.

In calculating the 2000 theft rates, NHTSA followed the same procedures it used in calculating the MY 1999 theft rates. (For 1999 theft data calculations, see 66 FR 39554, July 31, 2001). As in all previous reports, NHTSA's data were based on information provided to the agency by the National Crime Information Center (NCIC) of the Federal Bureau of Investigation. The NCIC is a governmental system that receives vehicle theft information from nearly 23,000 criminal justice agencies and other law enforcement authorities throughout the United States. The NCIC data also include reported thefts of self-insured and uninsured vehicles, not all of which are reported to other data sources.

The 2000 theft rate for each vehicle line was calculated by dividing the number of reported thefts of MY 2000 vehicles of that line stolen during calendar year 2000, by the total number of vehicles in that line manufactured for MY 2000, as reported by manufacturers to the Environmental Protection Agency.

The preliminary 2000 theft data show no change in the vehicle theft rate when compared to the theft rate experienced in CY/MY 1999. The preliminary theft rate for MY 2000 passenger vehicles stolen in calendar year 2000 of 2.89 thefts per thousand vehicles produced, did not change from the rate of 2.89 thefts per thousand vehicles experienced by MY 1999 vehicles in CY 1999. For MY 2000 vehicles, out of a total of 206 vehicle lines, 51 lines had a theft rate higher than 3.5826 per thousand vehicles, the established median theft rate for MYs 1990/1991. (See 59 FR 12400, March 16, 1994). Of the 51 vehicle lines with a theft rate higher than 3.5826, 45 are passenger car lines, six are multipurpose passenger vehicle lines, and none are light-duty truck lines.

In Table I, NHTSA has tentatively ranked each of the MY 2000 vehicle lines in descending order of theft rate. Public comment is sought on the accuracy of the data, including the data for the production volumes of individual vehicle lines.

Comments must not exceed 15 pages in length (49 CFR 553.21). Attachments may be appended to these submissions without regard to the 15 page limit. This limitation is intended to encourage commenters to detail their primary arguments in a concise fashion.

If a commenter wishes to submit certain information under a claim of confidentiality, three copies of the complete submission, including purportedly confidential business information, should be submitted to the Chief Counsel, NHTSA, at the street address given above, and two copies from which the purportedly confidential information has been deleted should be submitted to Dockets. A request for confidentiality should be accompanied by a cover letter setting forth the information specified in the agency's confidential business information regulation. 49 CFR part 512.

All comments received before the close of business on the comment closing date indicated above for this document will be considered, and will be available for examination in the docket at the above address both before and after that date. To the extent possible, comments filed after the closing date will also be considered. Comments on this document will be available for inspection in the docket. NHTSA will continue to file relevant information as it becomes available for inspection in the docket after the closing date, and it is recommended that interested persons continue to examine the docket for new material.

Those persons desiring to be notified upon receipt of their comments in the rules docket should enclose a self-addressed, stamped postcard in the envelope with their comments. Upon receiving the comments, the docket supervisor will return the postcard by mail.

Authority: 49 U.S.C. 33101, 33102 and 33104; delegation of authority at 49 CFR 1.50.

Preliminary Report of Theft Rates for 2000 Model Year Passenger Motor Vehicles Stolen in Calendar Year 2000
No. | Manufacturer | Make/model (line) | Thefts 2000 | Production (Mfr's) 2000 | 2000 theft rate (per 1,000 vehicles produced)
1 | DAIMLERCHRYSLER | PLYMOUTH BREEZE | 173 | 15,723 | 11.0030
2 | MITSUBISHI | MONTERO SPORT/NATIVA ¹ | 509 | 46,272 | 11.0002
3 | MITSUBISHI | MONTERO | 22 | 2,147 | 10.2469
4 | BMW | X5 | 12 | 1,312 | 9.1463
5 | DAIMLERCHRYSLER | CHRYSLER INTREPID ² | 4 | 449 | 8.9087
6 | DAIMLERCHRYSLER | DODGE STRATUS | 1,040 | 118,845 | 8.7509
7 | DAIMLERCHRYSLER | DODGE INTREPID | 1,400 | 162,279 | 8.6271
8 | MITSUBISHI | MIRAGE | 502 | 61,957 | 8.1024
9 | DAIMLERCHRYSLER | PLYMOUTH NEON | 626 | 89,142 | 7.0225
10 | DAIMLERCHRYSLER | DODGE NEON | 1,191 | 170,098 | 7.0018
11 | GENERAL MOTORS | CHEVROLET METRO | 210 | 30,521 | 6.8805
12 | DAIMLERCHRYSLER | JEEP CHEROKEE | 1,040 | 153,816 | 6.7613
13 | HONDA | ACURA NSX | 2 | 305 | 6.5574
14 | DAIMLERCHRYSLER | CHRYSLER LHS | 139 | 22,944 | 6.0582
15 | ASTON MARTIN | VANTAGE COUPE | 1 | 175 | 5.7143
16 | DAIMLERCHRYSLER | CHRYSLER CIRRUS | 267 | 46,849 | 5.6992
17 | FORD MOTOR CO | FORD CONTOUR | 350 | 61,603 | 5.6815
18 | DAIMLERCHRYSLER | CHRYSLER SEBRING CONVERTIBLE | 287 | 50,940 | 5.6341
19 | GENERAL MOTORS | OLDSMOBILE BRAVADA | 186 | 33,179 | 5.6060
20 | MITSUBISHI | GALANT | 520 | 94,773 | 5.4868
21 | HONDA | CIVIC | 1,807 | 339,223 | 5.3269
22 | GENERAL MOTORS | PONTIAC GRAND AM | 1,194 | 225,321 | 5.2991
23 | GENERAL MOTORS | OLDSMOBILE ALERO | 586 | 118,421 | 4.9484
24 | DAEWOO | LEGANZA | 128 | 25,960 | 4.9307
25 | HONDA | ACURA INTEGRA | 136 | 28,095 | 4.8407
26 | DAEWOO | LANOS | 116 | 24,049 | 4.8235
27 | KIA MOTORS | SEPHIA/SPECTRA | 487 | 101,027 | 4.8205
28 | GENERAL MOTORS | OLDSMOBILE INTRIGUE | 352 | 73,399 | 4.7957
29 | FORD MOTOR CO | MERCURY MYSTIQUE | 98 | 20,839 | 4.7027
30 | DAIMLERCHRYSLER | CHRYSLER CONCORDE | 268 | 59,453 | 4.5078
31 | TOYOTA | COROLLA | 839 | 187,996 | 4.4629
32 | SUZUKI | VITARA/GRAND VITARA | 197 | 46,188 | 4.2652
33 | AUDI | S4 | 23 | 5,396 | 4.2624
34 | GENERAL MOTORS | CADILLAC DEVILLE/LIMOUSINE | 380 | 92,619 | 4.1028
35 | FORD MOTOR CO | FORD MUSTANG | 832 | 202,972 | 4.0991
36 | KIA MOTORS | SPORTAGE | 271 | 66,519 | 4.0740
37 | HYUNDAI | ACCENT | 232 | 57,111 | 4.0623
38 | MITSUBISHI | ECLIPSE | 185 | 45,850 | 4.0349
39 | GENERAL MOTORS | CHEVROLET CAMARO | 177 | 43,990 | 4.0236
40 | GENERAL MOTORS | PONTIAC SUNFIRE | 366 | 91,198 | 4.0132
41 | SUZUKI | ESTEEM | 78 | 19,520 | 3.9959
42 | ISUZU | TROOPER | 75 | 19,100 | 3.9267
43 | GENERAL MOTORS | CHEVROLET CAVALIER | 975 | 256,972 | 3.7942
44 | GENERAL MOTORS | CHEVROLET MALIBU | 817 | 215,601 | 3.7894
45 | TOYOTA | LEXUS GS | 102 | 26,952 | 3.7845
46 | GENERAL MOTORS | CHEVROLET LUMINA/MONTE CARLO | 368 | 98,556 | 3.7339
47 | GENERAL MOTORS | PONTIAC FIREBIRD/TRANS AM/FORMULA. | 115 | 31,093 | 3.6986
48 | HYUNDAI | SONATA | 182 | 49,340 | 3.6887
49 | FORD MOTOR CO | FORD FOCUS | 1,112 | 304,049 | 3.6573
50 | AUDI | A6 | 94 | 26,000 | 3.6154
51 | GENERAL MOTORS | BUICK REGAL | 224 | 62,502 | 3.5839
52 | JAGUAR | S-TYPE | 117 | 32,818 | 3.5651
53 | NISSAN | MAXIMA | 604 | 175,111 | 3.4492
54 | FORD MOTOR CO | LINCOLN TOWN CAR | 296 | 89,164 | 3.3197
55 | NISSAN | ALTIMA | 484 | 147,978 | 3.2708
56 | VOLVO | C70 | 17 | 5,293 | 3.2118
57 | GENERAL MOTORS | CHEVROLET BLAZER S10/T10 | 800 | 249,486 | 3.2066
58 | SUZUKI | SWIFT | 9 | 2,860 | 3.1469
59 | DAIMLERCHRYSLER | CHRYSLER NEON² | 4 | 1,303 | 3.0698
60 | NISSAN | PATHFINDER | 88 | 28,983 | 3.0363
61 | GENERAL MOTORS | CHEVROLET PRIZM | 116 | 38,920 | 2.9805
62 | AUDI | TT | 21 | 7,215 | 2.9106
63 | MERCEDES BENZ | 220 (S-CLASS) | 118 | 40,612 | 2.9055
64 | HYUNDAI | ELANTRA | 354 | 122,625 | 2.8869
65 | ISUZU | RODEO | 155 | 54,169 | 2.8614
66 | GENERAL MOTORS | GMC JIMMY S-15 | 251 | 87,839 | 2.8575
67 | HONDA | PRELUDE | 29 | 10,165 | 2.8529
68 | GENERAL MOTORS | CADILLAC SEVILLE | 89 | 31,414 | 2.8331
69 | MAZDA | MILLENIA | 49 | 17,334 | 2.8268
70 | DAEWOO | NUBIRA | 67 | 23,985 | 2.7934
71 | GENERAL MOTORS | PONTIAC GRAND PRIX | 431 | 156,496 | 2.7541
72 | FORD MOTOR CO | FORD TAURUS | 945 | 350,145 | 2.6989
73 | FORD MOTOR CO | MERCURY MOUNTAINEER | 134 | 50,023 | 2.6788
74 | DAIMLERCHRYSLER | DODGE AVENGER | 17 | 6,376 | 2.6662
75 | MERCEDES BENZ | 208 (CLK-CLASS) | 47 | 17,796 | 2.6410
76 | FORD MOTOR CO | FORD EXPLORER | 1,001 | 383,386 | 2.6109
77 | GENERAL MOTORS | CHEVROLET IMPALA | 519 | 199,319 | 2.6039
78 | GENERAL MOTORS | CHEVROLET CORVETTE | 81 | 31,189 | 2.5971
79 | DAIMLERCHRYSLER | CHRYSLER 300 M | 138 | 53,353 | 2.5865
80 | FORD MOTOR CO | MERCURY SABLE | 239 | 93,301 | 2.5616
81 | TOYOTA | CELICA | 154 | 60,368 | 2.5510
82 | MAZDA | 626 | 192 | 76,444 | 2.5116
83 | ISUZU | VEHICROSS | 2 | 808 | 2.4752
84 | NISSAN | INFINITI Q45 | 10 | 4,045 | 2.4722
85 | DAIMLERCHRYSLER | JEEP GRAND CHEROKEE | 741 | 299,988 | 2.4701
86 | BMW | Z3 | 24 | 9,857 | 2.4348
87 | TOYOTA | CAMRY/CAMRY SOLARA | 1,097 | 451,343 | 2.4305
88 | FORD MOTOR CO | LINCOLN LS | 164 | 68,527 | 2.3932
89 | JAGUAR | XK8/XK8 CONVERTIBLE | 11 | 4,698 | 2.3414
90 | TOYOTA | RAV4 | 103 | 44,645 | 2.3071
91 | TOYOTA | 4-RUNNER | 302 | 132,248 | 2.2836
92 | DAIMLERCHRYSLER | DODGE CARAVAN/GRAND | 727 | 333,712 | 2.1785
93 | FORD MOTOR CO | FORD RANGER PICKUP TRUCK | 747 | 346,291 | 2.1571
94 | FORD MOTOR CO | FORD F-150 PICKUP TRUCK | 318 | 151,791 | 2.0950
95 | GENERAL MOTORS | CHEVROLET S-10 PICKUP TRUCK | 514 | 246,662 | 2.0838
96 | DAIMLERCHRYSLER | PLYMOUTH VOYAGER/GRAND | 258 | 123,906 | 2.0822
97 | FORD MOTOR CO | FORD ESCORT | 200 | 96,287 | 2.0771
98 | MAZDA | PROTÈGÈ | 166 | 80,346 | 2.0661
99 | GENERAL MOTORS | SATURN SC | 33 | 16,009 | 2.0613
100 | BMW | 7 | 35 | 17,141 | 2.0419
101 | TOYOTA | ECHO | 114 | 56,699 | 2.0106
102 | HYUNDAI | TIBURON | 32 | 15,958 | 2.0053
103 | MITSUBISHI | DIAMANTE | 17 | 8,629 | 1.9701
104 | GENERAL MOTORS | SATURN SL | 255 | 130,551 | 1.9533
105 | FORD MOTOR CO | MERCURY COUGAR | 87 | 44,911 | 1.9372
106 | DAIMLERCHRYSLER | CHRYSLER SEBRING COUPE | 21 | 10,910 | 1.9248
107 | DAIMLERCHRYSLER | JEEP WRANGLER | 178 | 92,672 | 1.9208
108 | GENERAL MOTORS | BUICK CENTURY | 272 | 144,495 | 1.8824
109 | NISSAN | XTERRA | 200 | 108,434 | 1.8444
110 | GENERAL MOTORS | GMC SAFARI VAN | 54 | 30,093 | 1.7944
111 | DAIMLERCHRYSLER | DODGE DAKOTA PICKUP TRUCK | 322 | 181,011 | 1.7789
112 | VOLVO | S40/V40 | 63 | 35,817 | 1.7589
113 | NISSAN | SENTRA | 120 | 68,587 | 1.7496
114 | BMW | 5 | 80 | 45,769 | 1.7479
115 | BMW | 3 | 155 | 89,026 | 1.7411
116 | FORD MOTOR CO | LINCOLN CONTINENTAL | 42 | 24,210 | 1.7348
117 | GENERAL MOTORS | CHEVROLET ASTRO VAN | 155 | 89,660 | 1.7288
118 | GENERAL MOTORS | CHEVROLET TRACKER | 77 | 45,063 | 1.7087
119 | HONDA | PASSPORT | 35 | 20,493 | 1.7079
120 | VOLVO | S70/V70 | 69 | 40,581 | 1.7003
121 | NISSAN | INFINITI G20 | 23 | 13,635 | 1.6868
122 | MAZDA | B SERIES PICKUP TRUCK | 53 | 31,627 | 1.6758
123 | MERCEDES BENZ | 203 (C-CLASS) | 44 | 26,439 | 1.6642
124 | VOLVO | XC | 24 | 14,489 | 1.6564
125 | TOYOTA | TACOMA PICKUP TRUCK | 236 | 142,518 | 1.6559
126 | VOLKSWAGEN | JETTA | 224 | 137,940 | 1.6239
127 | GENERAL MOTORS | CADILLAC ELDORADO | 22 | 13,845 | 1.5890
128 | GENERAL MOTORS | PONTIAC BONNEVILLE | 94 | 59,334 | 1.5843
129 | ISUZU | HOMBRE PICKUP TRUCK | 7 | 4,449 | 1.5734
130 | JAGUAR | XJR | 2 | 1,290 | 1.5504
131 | NISSAN | FRONTIER PICKUP TRUCK | 217 | 143,358 | 1.5137
132 | MERCEDES BENZ | 215 (CL-CLASS) | 2 | 1,338 | 1.4948
133 | FORD MOTOR CO | MERCURY GRAND MARQUIS | 200 | 135,282 | 1.4784
134 | HONDA | ACCORD | 627 | 430,595 | 1.4561
135 | PORSCHE | 911 | 11 | 7,578 | 1.4516
136 | GENERAL MOTORS | GMC SONOMA PICKUP TRUCK | 86 | 60,124 | 1.4304
137 | JAGUAR | XJ8 | 10 | 7,086 | 1.4112
138 | VOLKSWAGEN | GOLF/GTI | 37 | 26,862 | 1.3774
139 | AUDI | A8 | 3 | 2,189 | 1.3705
140 | MERCEDES BENZ | 210 (E-CLASS) | 64 | 46,709 | 1.3702
141 | TOYOTA | LEXUS LS | 15 | 11,179 | 1.3418
142 | DAIMLERCHRYSLER | DODGE VIPER | 2 | 1,559 | 1.2829
143 | GENERAL MOTORS | SATURN LS | 105 | 82,956 | 1.2657
144 | TOYOTA | LEXUS RX | 113 | 89,410 | 1.2638
145 | GENERAL MOTORS | BUICK LESABRE | 240 | 190,269 | 1.2614
146 | FORD MOTOR CO | FORD WINDSTAR VAN | 291 | 232,403 | 1.2521
147 | AUDI | A4 | 24 | 19,304 | 1.2433
148 | VOLVO | S80 | 44 | 35,864 | 1.2269
149 | SUBARU | IMPREZA | 21 | 17,353 | 1.2102
150 | GENERAL MOTORS | PONTIAC MONTANA VAN | 75 | 62,640 | 1.1973
151 | MERCEDES BENZ | 170 (SLK-CLASS) | 7 | 5,891 | 1.1883
152 | TOYOTA | LEXUS ES | 54 | 45,885 | 1.1769
153 | DAIMLERCHRYSLER | PLYMOUTH PROWLER | 3 | 2,576 | 1.1646
154 | GENERAL MOTORS | BUICK PARK AVENUE | 59 | 51,365 | 1.1486
155 | VOLKSWAGEN | CABRIO | 10 | 8,836 | 1.1317
156 | NISSAN | INFINITI I30 | 45 | 39,815 | 1.1302
157 | JAGUAR | VANDEN PLAS | 4 | 3,596 | 1.1123
158 | NISSAN | QUEST | 52 | 46,834 | 1.1103
159 | HONDA | ACURA TL | 74 | 67,287 | 1.0998
160 | GENERAL MOTORS | CADILLAC CATERA | 17 | 15,629 | 1.0877
161 | GENERAL MOTORS | CHEVROLET VENTURE VAN | 107 | 100,041 | 1.0696
162 | HONDA | CR-V | 121 | 114,387 | 1.0578
163 | TOYOTA | TUNDRA PICKUP TRUCK | 11 | 10,527 | 1.0449
164 | HONDA | ACURA RL | 17 | 16,470 | 1.0322
165 | MERCEDES BENZ | 129 (SL-CLASS) | 5 | 4,845 | 1.0320
166 | SUBARU | FORESTER | 29 | 28,950 | 1.0017
167 | DAIMLERCHRYSLER | CHRYSLER TOWN & COUNTRY | 93 | 96,298 | 0.9658
168 | ISUZU | AMIGO | 3 | 3,199 | 0.9378
169 | MAZDA | MPV | 47 | 50,565 | 0.9295
170 | FORD MOTOR CO | MERCURY VILLAGER MPV | 29 | 31,495 | 0.9208
171 | GENERAL MOTORS | CADILLAC FUNERAL COACH | 1 | 1,100 | 0.9091
172 | TOYOTA | AVALON | 98 | 108,025 | 0.9072
173 | VOLKSWAGEN | NEW BEETLE | 81 | 89,819 | 0.9018
174 | NISSAN | INFINITI QX4 | 25 | 28,258 | 0.8847
175 | VOLKSWAGEN | PASSAT | 59 | 67,216 | 0.8778
176 | GENERAL MOTORS | OLDSMOBILE SILHOUETTE VAN | 34 | 41,705 | 0.8152
177 | SAAB | 9-3 | 14 | 17,929 | 0.7809
178 | GENERAL MOTORS | SATURN LW | 11 | 14,418 | 0.7629
179 | SAAB | 9-5 | 13 | 17,162 | 0.7575
180 | TOYOTA | SIENNA VAN | 96 | 131,405 | 0.7306
181 | TOYOTA | MR2 | 4 | 5,597 | 0.7147
182 | SUBARU | LEGACY | 65 | 97,215 | 0.6686
183 | JAGUAR | XKR | 1 | 1,508 | 0.6631
184 | GENERAL MOTORS | SATURN SW | 6 | 9,113 | 0.6584
185 | PORSCHE | BOXSTER/BOXSTER S | 8 | 13,563 | 0.5898
186 | HONDA | S2000 | 5 | 9,206 | 0.5431
187 | MAZDA | MX-5 MIATA | 8 | 16,107 | 0.4967
188 | FORD MOTOR CO | FORD CROWN VICTORIA | 50 | 103,784 | 0.4818
189 | HONDA | INSIGHT | 2 | 5,603 | 0.3570
190 | HONDA | ODYSSEY | 33 | 122,131 | 0.2702
191 | ASTON MARTIN | VANTAGE VOLANTE | 0 | 573 | 0.0000
192 | BMW | Z8 | 0 | 2,936 | 0.0000
193 | DAIMLERCHRYSLER | CHRYSLER STRATUS ² | 0 | 131 | 0.0000
194 | FIAT | FERRARI 360 | 0 | 452 | 0.0000
195 | FIAT | FERRARI 456 | 0 | 82 | 0.0000
196 | FIAT | FERRARI 550 | 0 | 256 | 0.0000
197 | LOTUS | ESPRIT | 0 | 200 | 0.0000
198 | ROLLS-ROYCE | BENTLEY ARNAGE | 0 | 422 | 0.0000
199 | ROLLS-ROYCE | BENTLEY AZURE | 0 | 93 | 0.0000
200 | ROLLS-ROYCE | BENTLEY CONTINENTAL R | 0 | 23 | 0.0000
201 | ROLLS-ROYCE | BENTLEY CONTINENTAL SC | 0 | 3 | 0.0000
202 | ROLLS-ROYCE | BENTLEY CONTINENTAL T | 0 | 2 | 0.0000
203 | ROLLS-ROYCE | BENTLEY CORNICHE | 0 | 97 | 0.0000
204 | ROLLS-ROYCE | SILVER SERAPH | 0 | 154 | 0.0000
205 | TOYOTA | LEXUS SC | 0 | 823 | 0.0000
206 | VOLKSWAGEN | EUROVAN | 0 | 2,791 | 0.0000
¹ Nativa is the name applied to Montero Sport vehicles that are manufactured for sale only in Puerto Rico.
² These vehicles were manufactured for sale in the U.S. territories under the Chrysler nameplate.

Issued on: March 4, 2002.
Stephen R. Kratzke,
Associate Administrator for Safety Performance Standards.

[FR Doc. 02-5807 Filed 3-11-02; 8:45 am]

BILLING CODE 4910-59-P